DEPARTMENT OF STATE

[Public Notice 5207]

60-Day Notice of Proposed Information Collection: Department of State Forms DS-98 and DS-99; Application for Diplomatic Exemption Form; OMB Control Number 1405-0069

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Application for Diplomatic Exemption From Taxes.

• OMB Control Number: 1405-0069.

• Type of Request: Extension of an approved collection.

• Originating Office: Bureau of Diplomatic Security, Office of Foreign Missions, Diplomatic Tax and Customs Office, DS/OFM/VTC/TC.

• Form Number: DS-98 & DS-99.

• Respondents: Eligible foreign diplomatic or consular missions, certain foreign government organizations, and designated international organizations.

• Estimated Number of Respondents: 350.

• Estimated Number of Responses: Approximately 2419.

• Average Hours Per Response: 15 minutes.

• Total Estimated Burden: 605 hours.

• Frequency: On occasion.

• Obligation to Respond: Required to obtain or retain a benefit.

DATES: The Department will accept comments from the public up to 60 days from October 17, 2005.

ADDRESSES: You may submit comments by any of the following methods:

• E-mail: ofmcustomerservice@state.gov. You must include the DS form number, information collection title, and OMB control number in the subject line of your message.

• Mail (paper, disk, or CD-ROM submissions): Office of Foreign Missions, International Place, NW., U.S. Department of State, Washington, DC, 20008.

FOR FURTHER INFORMATION CONTACT: Direct requests for additional information regarding the collection listed in this notice, including requests for copies of the proposed information collection and supporting documents, to Ms. Irina Kaufman, DS/OFM/VTC, 3507 International Place, NW., U.S. Department of State, Washington, DC, 20008, who may be reached on 202-895-3683, or by e-mail at kaufmani@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: Exemption from taxes on the use of public utilities and the purchase of gasoline and other motor fuels is enjoyed by foreign diplomatic and consular personnel on assignment in the United States under the provisions of the Vienna Conventions on Diplomatic and Consular Relations and the terms of various bilateral agreements. Under the Foreign Missions Act of 1982 (as amended), 22 U.S.C. 4301 et seq., the Department of State's Office of Foreign Missions (OFM) is given the authority to grant privileges and benefits, based on reciprocity. Forms DS-98, “Application for Diplomatic Exemption From Taxes on Utilities”, and DS-99, “Application for Diplomatic Exemption From Taxes on Gasoline”, provide OFM with the necessary information to provide and administer the benefit effectively and efficiently.

Methodology: Paper copies of the DS-98 and DS-99 are either hand carried or mailed to OFM. Foreign missions can access both forms on the OFM Web site in Portable Document Format (PDF), which provides a data-input and print feature for clean and legible paper copies. An electronic submission option is expected to be made available to respondents in October of 2005.

John R. Arndt,
Acting Deputy Assistant Secretary of State and Deputy Director, Office of Foreign Missions, Bureau of Diplomatic Security, Department of State.

[FR Doc. 05-20702 Filed 10-14-05; 8:45 am]

BILLING CODE 4710-43-P